DEPARTMENT OF DEFENSE

Office of the Secretary

[Docket ID: DoD-2013-OS-0158]

Proposed collection; comment request

AGENCY: National Geospatial-Intelligence Agency, DoD.

ACTION: Notice.

In compliance with Section 3506(c)(2)(A) of the Paperwork Reduction Act of 1995, the National Geospatial-Intelligence Agency announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by September 17, 2013.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information. Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Polygraph Branch Chief, Security and Installations Division, Personnel Security, National Geospatial-Intelligence Agency, 7500 GEOINT Drive, Springfield, VA 22150.

Title; Associated Form; and OMB Number: National Geospatial-Intelligence Agency Polygraph Records, OMB Control Number 0704-TBD.

Needs and Uses: The information collection requirement is necessary to ensure integrity in the polygraph examination process, document polygraph results, assist with security eligibility determinations and employment or assignment suitability decisions in accordance with applicable laws, regulations and guidance, and to assist with investigations into possible violations of NGA rules and regulations, including the possible loss or compromise of classified or protected NGA information.

Affected Public: Individuals

Annual Burden Hours: 400

Number of Respondents: 2,400

Responses per Respondent: 1

Average Burden per Response: 10 minutes

Frequency: On occasion

SUPPLEMENTARY INFORMATION:

Summary of Information Collection

Respondents are NGA employees, military and contractor personnel who provide personal and professional information to the agency to conduct a polygraph examination. NGA Polygraph Records System is the central system for agency personnel to maintain and, where necessary, disseminate employee information to ensure integrity in the polygraph examination process, document polygraph results, assist with security eligibility determinations and employment or assignment suitability decisions in accordance with applicable laws, regulations and guidance, and to assist with investigations into possible violations of NGA rules and regulations, including the possible loss or compromise of classified or protected NGA information. Without the system, NGA would not be able to perform personnel security activities resulting in not being able to protect agency assets, conduct mission-related activities protecting national security.

Dated: July 11, 2013.
Aaron Siegel,
Alternate OSD Federal Register Liaison Officer, Department of Defense.

[FR Doc. 2013-17368 Filed 7-18-13; 8:45 am]

BILLING CODE 5001-06-P